DEPARTMENT OF COMMERCE

Minority Business Development Agency

[Docket No. 000623192-0192-01]

RIN 0640-ZA07

Solicitation of Applications for the Minority Business Capital Access Policy Institute

AGENCY: Minority Business Development Agency, Commerce.

ACTION: Notice.

SUMMARY: The Minority Business Development Agency (MBDA) published a document in the Federal Register of June 8, 2000, (65 FR 36411), concerning solicitation of competitive applications from organizations seeking to establish a Minority Business Capital Access Policy Institute (MBCAPI). This document extends the closing date of the award to no later than 5:00 p.m. on July 24, 2000.

DATES: The closing date for receipt of applications has been extended until July 24, 2000.

ADDRESSES: Applicants must submit one signed original plus two (2) copies of the application. Completed application packages must be submitted to: Office of Financial Access, Room 5600, Minority Business Development Agency, U.S. Department of Commerce, 14th & Constitution Avenue, NW, Washington, DC 20230.

FOR FURTHER INFORMATION CONTACT: Jason Everett at (202) 482-1940.

SUPPLEMENTARY INFORMATION: In the Federal Register issue of June 8, 2000, in FR Doc. 65-111, on page 36412, in the first column (second paragraph), change the date from July 10, 2000 to July 24, 2000. Applications will be accepted until 5:00 p.m. Eastern Daylight Time.

Glenn Clark,
Financial Management Officer, Minority Business Development Agency.
Juanita E. Berry,
Federal Register Liaison Officer, Minority Business Development Agency.

[FR Doc. 00-16444 Filed 6-28-00; 8:45 am]

BILLING CODE 3510-21-P